DEPARTMENT OF LABOR

Employment and Training Administration

[TA-W-70,305]

Shorewood Packaging, a Business Unit of International Paper, Inc., Springfield, OR; Notice of Negative Determination on Reconsideration

On January 26, 2010, the Department of Labor issued an Affirmative Determination Regarding Application for Reconsideration applicable to workers and former workers of Shorewood Packaging, a business unit of International Paper, Inc., Springfield, Oregon (the subject firm). The Department's Notice was published in the Federal Register on February 16, 2010 (75 FR 7030).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial negative determination was based on the findings that neither imports of articles like or directly competitive with packaging produced by the subject firm nor a shift in production to a foreign country by the subject firm contributed importantly to worker separations at the subject firm.

In the request for reconsideration, the petitioner provided additional information and alleged that Shorewood Packaging shifted overseas the production at Springfield, Oregon.

Information obtained from the subject firm during the reconsideration investigation clarified that the worker group was part of the Home Entertainment group. The subject firm also confirmed that production of Home Entertainment group articles were not shifted overseas. Rather, production was shifted to facilities located within the United States. Further, the articles produced at foreign facilities are neither like nor directly competitive with the Home Entertainment group packaging produced at the Springfield, Oregon facility.

Conclusion

After reconsideration, I affirm the original notice of negative determination of eligibility to apply for worker adjustment assistance for workers and former workers of Shorewood Packaging, a business unit of International Paper, Inc., Springfield, Oregon, on this 4th day of March, 2011

Del Min Amy Chen,
Certifying Officer, Office of Trade Adjustment Assistance.

[FR Doc. 2011-6190 Filed 3-16-11; 8:45 am]

BILLING CODE 4510-FN-P